SMALL BUSINESS ADMINISTRATION

[Disaster Declaration # 10043 and # 10044]

Illinois Disaster # IL-00001

AGENCY: U.S. Small Business Administration.

ACTION: Notice.

SUMMARY: This is a notice of an Administrative declaration of a disaster for the State of Illinois, dated 02/23/2005.

Incident: Flooding.

Incident Period: 01/01/2005 through 02/12/2005.

Effective Date: 02/23/2005.

Physical Loan Application Deadline Date: 04/25/2005.

EIDL Loan Application Deadline Date: 11/23/2005.

ADDRESSES: Submit completed loan applications to: U.S. Small Business Administration, Disaster Area Office 1, 360 Rainbow Blvd. South 3rd Floor, Niagara Falls, NY 14303.

FOR FURTHER INFORMATION CONTACT: Alan Escobar, Office of Disaster Assistance, U.S. Small Business Administration, 409 3rd Street, Suite 6050, Washington, DC 20416.

SUPPLEMENTARY INFORMATION: Notice is hereby given that as a result of the Administrator's disaster declaration on 02/23/2005, applications for disaster loans may be filed at the address listed above or other locally announced locations.

The following areas have been determined to be adversely affected by the disaster:

Primary Counties: Iroquois.

Contiguous Counties: Illinois, Ford, Kankakee, Vermilion, Indiana, Benton, and Newton.

The Interest Rates are:

Homeowners With Credit Available Elsewhere—5.875

Homeowners Without Credit Available Elsewhere—2.937

Businesses With Credit Available Elsewhere—5.800

Businesses and Small Agricultural Cooperatives Without Credit Available Elsewhere—4.000

Other (Including Non-Profit Organizations) With Credit Available Elsewhere—4.750

Businesses And Non-Profit Organizations Without Credit Available Elsewhere—4.000

The number(s) assigned to this disaster for physical damage is 10043 6 and for economic injury is 10044 0.

The States which received EIDL Decl # are: Illinois and Indiana.

(Catalog of Federal Domestic Assistance Numbers 59002 and 59008)
Dated: February 23, 2005.
Hector V. Barreto,
Administrator.

[FR Doc. 05-4237 Filed 3-3-05; 8:45 am]

BILLING CODE 8025-01-P